DEPARTMENT OF THE INTERIOR

Bureau of Land Management

[NM-030-04-1610-DR]

Notice of Availability of Record of Decision (ROD) and Resource Management Plan Amendment (RMPA) for Federal Fluid Minerals Leasing and Development in Sierra and Otero Counties

AGENCY: Bureau of Land Management, Interior.

ACTION: Notice of availability.

SUMMARY: In accordance with the National Environmental Policy Act (NEPA), the Federal Land Policy and Management Act (FLPMA), and the Bureau of Land Management (BLM) management policies, the BLM announces the availability of the ROD/RMPA for Federal fluid minerals leasing and development in Sierra and Otero Counties, New Mexico. The New Mexico State Director has signed the ROD/RMPA, which amends the White Sands RMP.

ADDRESSES: Copies of the fluid minerals ROD/RMPA are available upon request from the Field Manager, Las Cruces Field Office, Bureau of Land Management, 1800 Marquess St., Las Cruces, NM 88005 or via the Internet at http://www.nm.blm.gov.

FOR FURTHER INFORMATION CONTACT: Tom Phillips, RMPA Team Leader/Land Use Planner, 1800 Marquess St., Las Cruces, NM 88005. Telephone number is (505) 525-4377, email address is Tom_Phillips@nm.blm.gov.

SUPPLEMENTARY INFORMATION: The fluid minerals RMPA was developed with broad public participation through a 6-year public planning process. This RMPA addresses management of the Federal fluid mineral resources on approximately 2.1 million acres of public lands in the planning area. The fluid minerals RMPA is designed to identify which lands under BLM jurisdiction in Sierra and Otero Counties will be made available for potential fluid mineral leasing, and what measures are needed to manage those lands and protect other resource values.

The approved fluid minerals RMPA is relatively unchanged from the proposed plan in the Proposed Resource Management Plan Amendment/Final Environmental Impact Statement (PRMPA/FEIS), dated December 2003. In response to the PRMPA/FEIS, the Governor of New Mexico submitted a Consistency Review that recommended adopting an alternative plan he had developed. This alternative was similar to an alternative that was analyzed by the BLM in the draft and final environmental impact statements; therefore, the BLM determined it did not require an additional public comment period. The Governor's Consistency Review helped lead to the May 2004 PRMPA/FEIS Supplement that included the proposed closure of 35,790 acres to leasing. This closure was a change from the proposed plan in the PRMPA/FEIS where those acres were to be withheld from leasing for five years and re-evaluated. The BLM New Mexico State Director declined to accept the other recommendations made by the Governor, but replied with a written response addressing issues raised in the Consistency Review. Public comments on the supplement were taken for 30 days, and those comments have been considered and addressed in the ROD/RMPA.

The Governor appealed the State Director's decision not to fully adopt his alternative plan to the BLM Director. The BLM Director has issued a final response affirming the State Director's decision. All formal protests to the PRMPA/FEIS have also been resolved.

Minor modifications have been made to the proposed plan as set forth in the PRMPA/FEIS and Supplement. The modifications corrected errors noted in the review of the PRMPA/FEIS and provide further clarification regarding some of the decisions.

Linda S.C. Rundell,
State Director.

[FR Doc. 05-1316 Filed 1-24-05; 8:45 am]

BILLING CODE 4310-FB-P